DEPARTMENT OF HEALTH AND HUMAN SERVICES

Health Resources and Services Administration

[Announcement Number: HRSA-03-088]

Rural Access to Emergency Devices (RAED) Grant Program

AGENCY: Health Resources and Services Administration, HHS.

ACTION: Extension of deadline date.

SUMMARY: Notice document FR Doc. 03-9872, published Tuesday, April 22, 2003, states that the deadline for receipt of applications is June 18, 2003. This deadline has been extended. Applications must now be received at the HRSA Grants Applications Center (GAC), 901 Russell Avenue, Suite 450, Gaithersburg, MD 20879, by 5 p.m., 14 days following publication of this notice.

Dated: June 25, 2003.
Jane M. Harrison,
Director, Division of Policy Review and Coordination.

[FR Doc. 03-16496 Filed 6-27-03; 8:45 am]

BILLING CODE 4165-15-P